FEDERAL MARITIME COMMISSION

Ocean Transportation Intermediary License; Applicants

Notice is hereby given that the following applicants have filed with the Federal Maritime Commission an application for license as a Non-Vessel Operating Common Carrier and Ocean Freight Forwarder—Ocean Transportation Intermediary pursuant to section 19 of the Shipping Act of 1984 as amended (46 U.S.C. Chapter 409 and 46 CFR part 515).

Persons knowing of any reason why the following applicants should not receive a license are requested to contact the Office of Transportation Intermediaries, Federal Maritime Commission, Washington, DC 20573.

Non-Vessel Operating Common Carrier Ocean Transportation Intermediary Applicant

Trans BOS, LLC dba Transgroup International, 140 Eastern Avenue, Chelsea, MA 02150. Officer: Brenda Richards, Vice President (Qualifying Individual).

Non-Vessel Operating Common Carrier and Ocean Freight Forwarder Transportation Intermediary Applicant

Estes Forwarding Woldwide LLC, 1100 Commerce Road, Richmond, VA 23224. Officer: Harold Weekly, Managing Director (Qualifying Individual).

Dated: April 17, 2009.
Tanga S. FitzGibbon,
Assistant Secretary.

[FR Doc. E9-9266 Filed 4-21-09; 8:45 am]

BILLING CODE 6730-01-P